DEPARTMENT OF AGRICULTURE

Submission for OMB Review; Comment Request

December 20, 2017.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by January 25, 2018 will be considered. Written comments should be addressed to: Desk Officer for Agriculture, Office of Information and Regulatory Affairs, Office of Management and Budget (OMB), New Executive Office Building, 725 17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Office of the Assistant Secretary for Civil Rights

Title: USDA Program Discrimination Complaint Form.

OMB Control Number: 0508-0002.

Summary of Collection: Under 7 CFR 15.6 “any person who believes himself or any specific class of individuals to be subjected to discrimination . . . may by himself or by an authorized representative file a written complaint based on the ground of such discrimination.” The collection of this information is the avenue by which the individual or his representative may file such a complaint. The requested information is necessary in order for the Office of Civil Rights to address the alleged discriminatory action.

Need and Use of the Information: The requested information which can be submitted by filling out the Program Discrimination Form or by submitting a letter, is necessary in order for the USDA Office of the Assistant Secretary for Civil Rights (OASCR) to address the alleged discriminatory action. The respondent is asked to provide his/her name, mailing address, property address (if different from mailing address), telephone number, email address (if any) and to provide a name and contact information for the respondent's representative (if any). A brief description of who was involved with the alleged discriminatory action, what occurred and when, is requested. The program discrimination complaint filing information, which is voluntarily provided by the respondent, will be used by the staff of USDA OASCR to investigate, attempt resolution and settle the case. If information regarding alleged discrimination is not collected from the individual who believes he/she has experienced discrimination in a USDA program, it would not be possible for the USDA to address and rectify the alleged discrimination.

Description of Respondents: Individuals or households; Business or other for-profit; and Not-for-profit institutions.

Number of Respondents: 141.

Frequency of Responses: Reporting: Annually.

Total Burden Hours: 141.

Ruth Brown,
Departmental Information Collection Clearance Officer.

[FR Doc. 2017-27709 Filed 12-22-17; 8:45 am]

BILLING CODE 3410-9R-P